DEPARTMENT OF HOUSING AND URBAN DEVELOPMENT

[Docket No. FR-7034-N-56]

7-Day Notice of Emergency Approval of an Information Collection: Extension of Time and Required Disclosures for Notification of Nonpayment of Rent Information Collection Request; OMB Control Number: 2502-0178

AGENCY: Office of the Chief Information Officer, Department of Housing and Urban Development (HUD).

ACTION: Emergency notice.

SUMMARY: In accordance with the Paperwork Reduction Act, HUD has requested from the Office of Management and Budget (OMB) emergency approval of the information collection described in this notice. HUD is requesting comment from all interested parties on the proposed collection of information. The purpose of this notice is to allow for 7 days of public comment.

DATES: Comments due date: October 14, 2021.

ADDRESSES: Interested persons are invited to submit comments regarding this proposal. Written comments and recommendations for the proposed information collection should be sent within 7 days of publication of this notice to OIRA_submission@omb.eop.gov or www.reginfo.gov/public/do/PRAMain. Find this particular information collection by selecting “Currently under Review—Open for Public Comments” or by using the search function.

FOR FURTHER INFORMATION CONTACT: Collette Pollard, Reports Management Officer, QDAM, Department of Housing and Urban Development, 451 7th Street SW, Washington, DC 20410; email Ms. Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD is seeking approval from OMB for the information collection described in Section A.

A. Overview of Information Collection

Title of Information Collection: Extension of Time and Required Disclosures for Notification of Nonpayment of Rent Information Collection Request

OMB Approval Numbers:

2577-0006 Public Housing Agency (PHA) Lease Requirements, Recordkeeping Requirements.

2502-0178 Management Reviews of Multifamily Housing Programs.

Type of Request: Revisions of existing collection 2577-0006, and 2502-0178.

Form Number(s): N/A

Description of the need for the information and proposed use: The change to the existing information collection requests (ICRs) will provide for the burden on public housing agencies and multifamily owners of properties that receive project-based rental assistance to provide information to their tenants about Federal funding available related to a national emergency. Elsewhere in this issue of the Federal Register, HUD is publishing an interim final rule entitled “Extension of Time and Required Disclosures for Notification of Nonpayment of Rent” (FR-6286-F-01), which provides the Secretary, upon making the requisite findings and providing the requisite notice, may require housing providers participating in public housing and properties with project-based rental assistance (PBRA) to provide tenants facing eviction for non-payment of rent with notification of and information about the opportunity to secure emergency funding and additional time to secure such funding prior to eviction. This Paperwork Reduction Act (PRA) amends the existing collections covering notifications for tenants for failure to pay rent in both the public housing collection, OMB No. 2577-0006, and the PBRA collection, OMB No. 2502-0178, to account for the additional burden of providing the additional notice to tenants in advance of an eviction with information about the opportunity to secure emergency funding and additional time to secure such funding prior to eviction.

HUD estimates a total of 217,000 households will be helped from receiving this eviction notification. HUD distributes that number amongst the programs' collections and number of PHAs and multifamily owners. HUD anticipates the burden on the PHA and owners to be updating their standard lease termination notice with the new information, either by incorporating it into the notice, where applicable, or by providing it as a separate addendum. Providing the notice would not create additional burdens, as PHA and owners are already required to provide a notification when a household fails to pay rent. Thus, HUD anticipates minimal additional costs for this notice requirement. Finally, for the public housing program only, the rule requires PHAs to inform all public housing tenants that the extended timeframe for notification of lease termination due to nonpayment of rent is in effect, and that families will be provided information on available funding in that 30-day notification.+

Information collection | Number of respondents | Frequency of response | Responses per annum | Burden hour per response | Annual burden hours | Hourly cost per response | Annual cost
2577-0006 | 2,838 | 1 | 2,838 | .25 | 709.5 | $18.28 | 12,969.66
2502-0178 | 27,127 | 1 | 27,127 | .25 | 6,781.75 | 32.60 | 221,085.05
Total | 29,965 | 1 | 29,965 | .25 | 7,491.257,491.25 | XX | 234,054.71

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond; including through the use of appropriate automated collection techniques or the forms of information technology, e.g., permitting electronic submission of responses.

HUD encourages interested parties to submit comment in response to these questions.

Authority: Section 3507 of the Paperwork Reduction Act of 1995, 44 U.S.C. Chapter 35.

Colette Pollard,
Department Reports Management Officer, Office of the Chief Information Officer.

[FR Doc. 2021-21961 Filed 10-6-21; 8:45 am]

BILLING CODE 4210-67-P